DEPARTMENT OF TRANSPORTATION

National Highway Traffic Safety Administration

[DOCKET No. NHTSA-01-10411; NOTICE 1]

Reliance Trailer Company, LLC ; Receipt of Application for Decision of Inconsequential Noncompliance

Reliance Trailer Company, LLC, of Spokane, Washington, determined that 26 of its dump body trailers failed to comply with Federal Motor Vehicle Safety Standard (FMVSS) No. 224, “Rear Impact Protection,” and has applied to be exempted from the notification and remedy requirements of 49 U.S.C. Chapter 301 “Motor Vehicle Safety” on the basis that the noncompliance is inconsequential to motor vehicle safety. Reliance has filed an appropriate report of noncompliance pursuant to 49 CFR Part 573 “Defects and Noncompliance Reports.”

This notice of receipt of an application is published under 49 U.S.C. 30118 and 30120 and does not represent any agency decision or other exercise of judgement concerning the merits of the application.

On May 29, 2001, Reliance filed a petition for inconsequential noncompliance after it determined that 26 dump body trailers it manufactured may not comply with FMVSS No. 224, “because their wheels were located farther ahead of the 12″ wheels back dimension.”

Description of Noncompliance and Reasons of Exemption

Reliance stated:

We are a small, Pacific Northwest, custom trailer manufacturer (LLC in Washington State) with a small (38 person) operation, in Western Washington, that builds aggregate hauling equipment for road building and construction industries.

1. FMVSS 224 Compliance Problems

Asphalt laydown equipment have hoppers into which our vehicle dumps the hot mix and the various types require our rear axles to be set ahead of the trailer rear 16″-18.″ This location is farther than the 12″ “wheels back” measurement, so an under-ride device should be installed. However, any device behind the tires will interfere with this operation unless it can be moved out of the way when this dumping takes place.

Currently, no one has been able to get paver manufacturers to revise, or users to retrofit all their equipment so the under-ride could be accommodated. Additionally, no vehicle manufacturer has come up with a reasonably durable, cost effective, movable guard that is not too heavy, too expensive to maintain.

2. Competitors' Exemption

Docket #NHTSA-98-3848, Notice 2, Grant of Petition

Docket #NHTSA-98-3848, Notice 3, Petition for Renewal

Docket #NHTSA-98-3848, Notice 4, Grant of Petition

Beall Trailers of Washington, Inc. was granted an exemption. All the details in those dockets are similar to ours and we compete with them directly for this type of business.

3. Similar “Paver” Exemption

Docket #NHTSA-2001-8827 Notice 2, Grant of Petition

Dan Hill and Associates, Inc. and Red River Manufacturing, Inc. received an exemption published April 18, 2001, which expires April, 2003, for trailers those two competitors build. They have similar interference problems with paving equipment. Their experiences in designing and constructing guards, that will work, show how difficult this is.

4. Vehicle Use and Exposure on Highways

Very small quantities of these vehicles are built each year. Typical hauls are short and have minimal amount of time traveling on highways compared with most freight trailers.

Asphalt batch plants are typically set up close to the paving activities so vehicles spend little time traveling on roads to the paving site. Often, special temporary access, off highways, is provided for paving operations, which also diminishes the exposure for these vehicles.

We know of no rear end collisions, involving injuries, with this type of trailer.

5. Under-ride Guard and Research Activities

We are beginning a review of paving equipment that these trailers mate with to determine if they can be retrofitted or modified to accommodate trailers with tires located within 12″ of the rear. With this survey, we will determine how a fixed rear guard interferes and what requirements will be necessary for swing up or retractable guards.

Based on this, Reliance will aggressively proceed to design, build, test and provide prototypes to determine the feasibility and usefulness of these devices.

Hot asphalt build-up on any moving parts may require frequent cleaning or maintenance and will need to be analyzed carefully so these devices will work.

Frequent impacts, while contacting the paver, are a serious consideration that can affect the integrity of the guard.

Based upon the foregoing, we are asking to be granted an Exemption for Inconsequential Noncompliance.

Separately, Reliance submitted a Petition for a Temporary Exemption from FMVSS No. 224 (66 FR 36989).

Interested persons are invited to submit written data, views and arguments on the petition of Reliance, described above. Comments should refer to the Docket Number and be submitted to: Docket Management, National Highway Traffic Safety Administration, Room PL 401, 400 Seventh Street, SW., Washington, DC 20590. It is requested that two copies be submitted.

All comments received before the close of business on the closing date indicated below will be considered. The application and supporting materials, and all comments received after the closing date will also be filed and will be considered to the extent practicable. When the application is granted or denied, a notice will be published in the Federal Register pursuant to the authority indicated below.

Comment closing date: September 24, 2001.

(49 U.S.C. 30118, 30120; delegations of authority at 49 CFR 1.50 and 49 CFR 501.8)

Issued on: August 20, 2001.
Stephen R. Kratzke,
Associate Administrator for Safety Performance Standards.

[FR Doc. 01-21454 Filed 8-23-01; 8:45 am]

BILLING CODE 4910-59-P